DEPARTMENT OF HEALTH AND HUMAN SERVICES

Centers for Disease Control and Prevention

[30Day-14-0907]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Musculoskeletal disorder (MSD) intervention effectiveness in material handling operations—Revision—National Institute for Occupational Safety and Health (NIOSH), Centers for Disease Control and Prevention (CDC).

Background and Brief Description

NIOSH proposes a 2-year approval to continue a study to assess the effectiveness and cost-benefit of occupational safety and health (OSH) interventions for musculoskeletal disorders (MSD).

NIOSH and the Ohio Bureau of Workers Compensation (OBWC) will continue to collaborate on a multi-site intervention study at OBWC-insured companies from 2014-2016. In overview, MSD engineering control interventions (such as stair-climbing, powered hand trucks and powered truck lift gates) will be tested for effectiveness in reducing self-reported back and upper extremity pain among up to 960 employees performing material handling operations in up to 72 establishments using a prospective design (multiple baselines across groups). The costs of the interventions will be funded through existing OBWC funds and participating establishments. This study will provide important information that is not currently available elsewhere on the effectiveness of OSH interventions for workers. The study sub-sample will be volunteer employees at OBWC-insured establishments who perform material handling tasks that are expected to be impacted by the engineering control interventions. It is estimated that there will be up to 960 impacted employees in the recruited establishments, which will be paired according to previous WC loss history and establishment size. This protocol is changed from the previous data collection in that:

• A Low Back Functional Assessment is no longer being conducted to increase data collection efficiency.

• The study population now includes workers performing material handling tasks in all industries, not just wholesale retail trade. Tested interventions also include a number of material handling engineering controls. These changes were made to increase generalizability of results.

• All employers will now receive the intervention immediately, rather than half being randomly selected to receive the intervention six months later. This change was made to increase participation among employers.

The main outcomes for this study are self-reported low back pain and upper extremity pain collected using surveys every three months over a two-year period from volunteer material handling workers at participating establishments. Individuals will also be asked to report usage of the interventions and material handling exposures every three months over two years. Individuals will also be asked to complete an annual health assessment survey at baseline, and once annually for two years.

In order to maximize efficiency and reduce burden, a choice of web-based or paper survey is proposed for the data collection.

All collected information will be used to determine whether there are significant differences in reported musculoskeletal pain and functional back pain score ratios (pre/post intervention scores), while controlling for covariates. Once the study is completed, results will be made available through the NIOSH internet site and peer-reviewed publications. In summary, this study will determine the effectiveness of the tested MSD interventions for material handling workers and enable evidence based prevention practices to be shared with the greatest audience possible. NIOSH expects to complete data collection in 2016. There is no cost to respondents other than their time. The total estimated annual burden hours are 1,364.

The “Self-reported low back pain” and “Self-reported upper extremity pain” forms are collected nine times over two years. The “Self-reported general work environment and health” form is collected at baseline, at the end of the first year and at the end of the second year. The informed consent form is collected once at the beginning of the study. The early exit interview is collected once for a limited number of participants.

Estimated Annualized Burden Hours
Type of respondents | Form name | Number of respondents | Number of responses per respondent | Average burden per response (in hrs.)
Material handling workers | Self-reported low back pain | 960 | 4.5 | 5/60
| Self-reported upper extremity pain | 960 | 4.5 | 5/60
| Self-reported specific job tasks and safety incidents | 960 | 4.5 | 5/60
| Self-reported general work environment and Health | 960 | 1.5 | 10/60
| Informed Consent Form (Overall Study) | 960 | .5 | 5/60
| Early Exit Interview | 106 | .5 | 5/60

Leroy A. Richardson,
Chief, Information Collection Review Office, Office of Scientific Integrity, Office of the Associate Director for Science, Office of the Director, Centers for Disease Control and Prevention.

[FR Doc. 2014-21881 Filed 9-12-14; 8:45 am]

BILLING CODE 4163-18-P